ENVIRONMENTAL PROTECTION AGENCY

[ER-FRL-9002-8]

Environmental Impacts Statements; Notice of Availability

Responsible Agency: Office of Federal Activities, General Information (202) 564-7146 or http://www.epa.gov/compliance/nepa/.

Weekly receipt of Environmental Impact Statements

Filed 04/23/2012 through 04/27/2012

Pursuant to 40 CFR 1506.9.

Notice: Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA headquarters, by filing documents online and providing feedback on the process. To participate in the pilot, register at: https://cdx.epa.gov.

EIS No. 20120128, Final Supplement, NOAA, 00, Amendment 11 to the Fishery Management Plan for Spiny Lobster, Establish Trap Line Marking Requirements and Closed Areas to Protect Coral Species, Gulf of Mexico and South Atlantic Regions, Review Period End: 06/04/2012, Contact: Roy E. Crabtree 727-824-5701.

EIS No. 20120129, Final Supplement, FHWA, 00, Louisville-Southern Indiana Ohio River Bridges Projects, New Circumstances and Modifications, Cross-River Mobility Improvements between Jefferson County, KY and Clark County, IN, Coast Guard Bridge Permit, USACE Section 10 and 404 Permits, Jefferson County, KY and Clark County, IN, Review Period End: 06/04/2012, Contact: Janice Osadczuk 317-226-7486.

EIS No. 20120130, Final EIS, USFS, CA, Algoma Vegetation Management Project, Proposing to Protect and Promote Conditions of Late-Successional Forest Ecosystem on 5, 6000 Acres within the 14,780 Acre Unit of the Algoma Late-Successional Reserve (LSR), Shasta-Trinity National Forest, Siskiyou County, CA, Review Period Ends: 06/11/2012, Contact: Emelia Barnum 530-926-9600.

EIS No. 20120131, Final EIS, BLM, OR, Celatom Mine Expansion Project, Proposal to Approve, or Approve with Condition, Authorized Mine Plan of Operation Permit, Harney and Malheur Counties, OR, Review Period End: 06/04/2012, Contact: Bill Dragt 541-573-4473.

EIS No. 20120132, Draft EIS, BLM, CA, Haiwee Geothermal Leasing Area, Evaluation of Potential Impacts of Opening for Lease of Federal Mineral Estate for Geothermal Energy Exploration and Development, Approval of Lease Applications, Inyo County, CA, Comment Period Ends: 08/01/2012, Contact: Peter Godfrey 951-697-5385.

EIS No. 20120133, Draft EIS, USFWS, CA, Llano Seco Riparian Sanctuary Unit Restoration and Pumping Plant/Fish Screen Facility Protection Project, Measures to Restore Riparian Habitat and to Protect the Alignment of the Sacramento River, USACE Section 10 and 404 Permits, Sacramento River National Wildlife Refuge, Butte and Glenn Counties, CA, Comment Period Ends: 06/25/2012, Contact: Daniel W. Frisk 530-934-2801.

EIS No. 20120134, Final EIS, NRC, FL, Levy Nuclear Plant Units 1 and 2, Application for Combined Licenses (COLs) for Construction Permits and Operating Licenses, (NUREG-1941), Levy County, FL, Review Period End: 06/04/2012, Contact: Douglas Bruner 301-415-2730.

EIS No. 20120135, Final EIS, USFS, CO, Colorado Roadless Areas Rulemaking, Proposal To Establish Regulatory Direction for Managing Approximately 4.2 million Acres of Roadless Areas, Arapaho and Roosevelt; Grand Mesa, Uncompahgre, and Gunnison; Manti-La Sal (portion in Colorado); Pike and San Isabel; Rio Grande; Routt; San Juan; and White River National Forests, CO, Review Period End: 06/04/2012, Contact: Ken Tu 303-275-5156.

Amended Notices

EIS No. 20120120, Draft EIS, BLM, AZ, Mohave County Wind Farm Project, Application for a Right-of-Way Grant to Construct, Operate, Maintain and Decommission a Wind Powered Electrical Generation Facility, White Hills, Mohave County, AZ, Comment Period Ends: 06/11/2012, Contact: Jerry Crockford 505-360-0473.

Revision to FR Notice Published 04/27/2012; Change Project State from CO to AZ.

Dated: May 1, 2012.
Cliff Rader,
Director, NEPA Compliance Division, Office of Federal Activities.

[FR Doc. 2012-10826 Filed 5-3-12; 8:45 am]

BILLING CODE 6560-50-P